DEPARTMENT OF TRANSPORTATION

Surface Transportation Board

[STB Finance Docket No. 34403]

Morristown & Erie Railway, Inc.—Lease and Operation Exemption—State of Maine

Morristown & Erie Railway, Inc. (M&E), a Class III rail carrier, d/b/a Maine Eastern Railroad, has filed a verified notice of exemption under 49 CFR 1150.41 et seq. to lease and operate the following 85.19 miles of rail line owned by the State of Maine: (1) The Brunswick to Augusta Branch Line between milepost 27.97 in Brunswick and milepost 55.91 in Gardiner, in Cumberland and Kennebec Counties, ME (27.94 miles); (2) the Brunswick to Rockland Branch Line between milepost 29.40 in Brunswick and milepost 85.55 in Rockland, in Cumberland and Knox Counties, ME (56.15 miles); and (3) the Atlantic Branch Line between milepost 85.55 and milepost 86.65 in Rockland, Knox County, ME (1.1 miles). M&E certifies that its projected annual revenues as a result of this transaction will not exceed $5 million, and thus the transaction will not result in the creation of a Class II or Class I rail carrier. The lease is subject to existing freight operating rights held by Maine Central Railroad Company and Springfield Terminal Railway Company over portions of these lines.

Consummation of this transaction was expected to occur on or after October 1, 2003. The lines to be operated by M&E have been operated by Safe Handling Rail Inc. (SHR) under a modified certificate of public convenience and necessity. Pursuant to an agreement between the State of Maine and SHR, SHR's service was due to terminate on September 30, 2003.

If the verified notice contains false or misleading information, the exemption is void ab initio. Petitions to revoke the exemption under 49 U.S.C. 10502(d) may be filed at any time. The filing of a petition to revoke will not automatically stay the transaction.

An original and 10 copies of all pleadings, referring to STB Finance Docket No. 34403, must be filed with the Surface Transportation Board, 1925 K Street, NW., Washington, DC 20423-0001. In addition, a copy of each pleading must be served on John K. Fiorilla, Watson, Stevens, Fiorilla & Rutter, LLP, 390 George Street, P.O. Box 1185, New Brunswick, NJ 08903.

Board decisions and notices are available on our Web site at http://www.stb.dot.gov.

Decided: October 17, 2003.
By the Board, David M. Konschnik, Director, Office of Proceedings.
Vernon A. Williams,
Secretary.

[FR Doc. 03-26741 Filed 10-22-03; 8:45 am]

BILLING CODE 4915-00-P